DEPARTMENT OF COMMERCE

Submission for OMB Review; Comment Request

DOC has submitted to the Office of Management and Budget (OMB) for clearance the following proposal for collection of information under the provisions of the Paperwork Reduction Act (44 U.S.C. Chapter 35).

Agency: Bureau of Economic Analysis.

Title: Annual Survey of Construction, Engineering, Architectural, and Mining Services Provided by U.S. Firms to Unaffiliated Foreign Persons.

Form Number(s): BE-47.

Agency Approval Number: 0608-0015.

Type of Request: Extension of a currently approved collection without any change in the substance or in method of collection.

Burden: 700 hours.

Number of Respondents: 155.

Avg Hours Per Response: 4.5.

Needs and Uses: The Government requires data from the BE-47, Annual Survey of Construction, Engineering, Architectural, and Mining Services Provided by U.S. Firms to Unaffiliated Foreign Persons, to obtain accurate and up-to-date information on sales to unaffiliated foreign persons of construction, engineering, architectural, and mining services. It will use the data collected in monitoring U.S. exports of construction, engineering, architectural, and mining services, analyzing their impact on the U.S. and foreign economies, supporting U.S. international trade policy on such services, compiling the international transactions, national income and product, and input-output accounts of the United States, assessing U.S. competitiveness in international trade in services, and improving the ability of U.S. businesses to identify and evaluate market opportunities. For example, the Uruguay round of multilateral trade negotiations produced an agreement, the General Agreement on Trade in Services (GATS), that will liberalize market access rules and promote more equal treatment of U.S. construction and engineering firms. The BE-47 data help measure gains, by individual foreign country, obtained in construction and related services under the GATS. Similar needs arise with respect to the North American Free Trade Agreement among the United States, Canada, and Mexico.

Affected Public: U.S. businesses or other for-profit institutions providing construction, engineering, architectural, and mining services to unaffiliated foreign persons.

Frequency: Annual.

Respondent's Obligation: Mandatory.

Legal Authority: Title 22 U.S.C., Sections 3101-3108, as amended.

OMB Desk Officer: Paul Bugg, (202) 395-3093.

Copies of the above information collection proposal can be obtained by calling or writing Departmental Paperwork Clearance Officer, Madeleine Clayton, (202) 482-3129, Department of Commerce, Room 6086, 14th and Constitution Avenue, NW., Washington, DC 20230 or by e-mail to MClayton@doc.gov.

Written comments and recommendations for the proposed information collection should be sent within 30 days of publication of this notice to Paul Bugg, OMB Desk Officer, Room 10201, New Executive Office Building, Washington DC 20503.

Dated: October 9, 2001.
Madeleine Clayton,
Departmental Forms Clearance Officer, Office of the Chief Information Officer.

[FR Doc. 01-25789 Filed 10-12-01; 8:45 am]

BILLING CODE 3510-06-P